DEPARTMENT OF JUSTICE

Office of Justice Programs

Agency Information Collection Activities: Proposed Collection; Comment Request

ACTION: 30-day notice of information collection under review:Revision of a currently approved collection; Local Law Enforcement Block Grant Program.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 68, Number 108, page 33745 on June 5, 2003, allowing for a 60 day comment period.

The purpose of this notice is to allow for an additional 30 days for public comment until January 2, 2004. This process is conducted in accordance with 5 CFR 1320.10.

Written comments, or suggestions regarding the item(s) contained in this notice, especially regarding the estimated public burden and associated response time, should be directed to the Office of Management and Budget, Office of Information and Regulatory Affairs, Attention: Department of Justice Desk Officer, Washington, DC 20530. Additionally, comments may be submitted to OMB via facsimile at (202) 395-5806.

Written comments and suggestions from the public and affected agencies concerning the proposed collection of information are encouraged. Your comments should address one or more of the following four points:

—Evaluate whether the proposed collection of information is necessary for the proper performance of the function of the agency, including whether the information will have practical utility.

—Evaluate the accuracy of the agency's estimate of the burden of the proposed collection of information, including the validity of the methodology and assumptions used.

—Enhance the quality, utility, and clarity of the information to be collected.

—Minimize the burden of the collection of information on those who are to respond, including through the use of appropriate automated, electronic, mechanical, or other technological collection techniques or other forms of information technology, e.g., permitting electronic submission of responses.

Overview of this information:

(1) Type of information collection: Revision of currently approved collection.

(2) The title of the form/collection: Local Law Enforcement Block Grant Program.

(3) The agency form number, if any, and the applicable component of the Department sponsoring the collection: Form Number: None, Bureau of Justice Assistance, Office of Justice Programs, Department of Justice.

(4) Affected public who will be asked or required to respond, as well as a brief abstract. Primary: State, local, or tribal governments. Other: None.Abstract: The Local Government Law Enforcement Block Grants Act of 1995 authorizes the Director of the Bureau of Justice Assistance to make funds available to local units of government in order to reduce crime and improve public safety. Federal funds are allocated by a formula based on Part I Violent Crimes as reported in the Federal Bureau of Investigation's Uniform Crime Reports.

(5) An estimate of the total number of respondents and the amount of time estimated for an average respondent to respond/reply: There are approximately 3,000 respondents who will request LLEBG grant funds by completing the no more than 30-minute online process.

(6) An estimate of the total public burden (in hours) associated with the collection: The total annual public burden hours for this information collection is estimated to be 763 hours.

If additional information is required, contact: Ms. Brenda E. Dyer, Deputy Clearance Officer, U.S. Department of Justice, Planning and Policy Staff, Justice Management Division, 601 D Street, NW., Washington, DC 20004, or via facsimile at (202) 514-1590.

Dated: November 25, 2003.
Brenda E. Dyer,
Deputy Clearance Officer, U.S. Department of Justice.

[FR Doc. 03-29917 Filed 12-1-03; 8:45 am]

BILLING CODE 4410-18-P